DEPARTMENT OF DEFENSE

Department of the Army, Corps of Engineers

Intent To Prepare a Draft Environmental Impact Statement (DEIS) for the Proposed Beluga to Fairbanks (B2F) Natural Gas Transportation Pipeline Proposed by the Alaska Natural Gas Development Authority (ANGDA)

AGENCY: U.S. Army Corps of Engineers, DoD.

ACTION: Notice of intent.

SUMMARY: The Alaska District, U.S. Army Corps of Engineers (Corps) intends to prepare a Draft Environmental Impact Statement (DEIS) to address the potential impacts associated with the construction of the proposed Beluga to Fairbanks (B2F) Alaska natural gas transportation pipeline. The Corps will be evaluating a permit application for work under Section 10 of the Rivers and Harbors Act and Section 404 of the Clean Water Act. The Environmental Impact Statement (EIS) will be used as a basis for the permit decision and to ensure compliance with the National Environment Policy Act.

FOR FURTHER INFORMATION CONTACT: Questions about the proposed action and the DEIS can be answered by: Ms. Serena Sweet, Regulatory Division, telephone: (907) 753-2819, toll free in AK: (800) 478-2712, Fax: (907) 753-5567, e-mail: serena.e.sweet@usace.army.mil, mail: U.S. Army Corps of Engineers, CEPOA-RD, Post Office Box 6898, Elmendorf AFB, Alaska 99506-0898. Additional information may be obtained at http://www.angdaB2Feis.com.

SUPPLEMENTARY INFORMATION: 1. The permit applicant, Alaska Natural Gas Development Authority (ANGDA), is proposing to construct a 460-mile pipeline with a 20- to 24-inch hard pipe bidirectional line from Beluga, AK to Delta Junction, AK and a 10- to 15-inch soft line from Delta Junction to North Pole/Fairbanks, AK to deliver natural gas from the Beluga gas fields to interior Alaska. The proposed route and adjacent service area would begin in Beluga, AK, continuing through the community of Palmer, AK then easterly along the Glenn Highway, with a deviation northwardly through Chitna Pass to Glennallen, AK. It would then turn north following the Richardson Highway paralleling the Trans Alaska Pipeline System (TAPS) route to the city of Delta Junction, AK. The pipe would then turn west continuing along the TAPS route to a connection point near the Golden Valley Electric Association (GVEA) power plant in North Pole, AK. The pipeline would be buried throughout the corridor. Three compressor stations are proposed at Palmer, Glennallen, and North Pole, AK.

2. The right of way for the proposed pipeline corridor is owned by numerous entities. The largest land owners along the proposed route include the Bureau of Land Management, the Military (Fort Greely, Fort Wainwright and Eielson Air Force Base), Native Allotments/Corporations, private land owners and the State of Alaska.

3. Additional alternatives to the applicant's proposal include four routing segments variations and one design alternative (A map depicting the location of each alternate route is available at the EIS Web site):

a. Route Alternative 1: Utilization of a Chugach Electric easement from Beluga, AK across the Susitna River to Palmer, AK rather than the ENSTAR pipeline route. This route would deviate northeastwardly from the proposed route west of the Susitna River and would realign with the proposed route south of Knik, AK.

b. Route Alternative 2: Employ full utilization of the Glenn Highway route from Sutton, AK to Eureka, AK rather than deviating through Chitna Pass north of Chickaloon, AK. This route would deviate from the proposed route at Sutton, AK and follow the Glenn Highway, realigning with the proposed route at approximately milepost 128 of the Glenn Highway, southwest of Nelchina, AK.

c. Route Alternative 3: Utilization of the TAPS corridor from Delta Junction, AK to North Pole, AK as an alternate route to bring gas directly to the GVEA power plant.

d. Route Alternative 4: Utilization of the Parks Highway route from Fairbanks, AK to Wasilla, AK rather that use of the Glenn Highway route.

e. Design Alternative 1: Use of 4-inch steel tubing for the segment from Delta Junction, AK to North Pole, AK rather than plastic tubing.

4. Scoping: a. The Corps invites full public participation to promote open communication on the issues surrounding the proposal. All Federal, State, Tribal, local agencies, and other persons or organizations that have an interest are urged to participate in the NEPA scoping process. These meetings will be held to receive public input on the proposed purpose and need of the project, to identify significant issues and to discuss proposed alternatives. The scoping process will help to further explain the purpose and need plus the alternatives to be reviewed in the DEIS. The project scoping period will begin on February 1, 2009 and end on March 15, 2009.

b. The DEIS will analyze the potential social, economic, and environmental impacts to the affected areas. The following major issues will be analyzed in depth in the DEIS: The natural gas delivery system construction and operation and its affect upon the surrounding communities; essential fish habitat; threatened and endangered species including critical habitat; cultural resources; socioeconomics; alternatives; secondary and cumulative impacts.

c. The Corps will serve as the lead Federal agency in the preparation of the DEIS. The Bureau of Land Management is participating as a cooperating agency.

5. The scoping meetings are tentatively planned for the following dates and locations and each meeting with include an open-house from 5 p.m.-6 p.m. and a project presentation and questions and answer session from 6 p.m.-8 p.m. (Please consult the above referenced Web site for any changes and additional information including the scoping summary):

a. Anchorage: March 4, 2009 at Sheraton Hotel (401 East 6th Avenue, Anchorage, AK).

b. Wasilla: March 5, 2009 at Central Mat-Su Public Safety Building (101 West Swanson Drive, Wasilla).

c. Glennallen: February 24, 2009 at Tazlina Village Hall (Mile 110.5 Richardson Highway, Glennallen, AK).

d. Delta Junction: February 25, 2009 at Delta Junction Community Center (2288 Deborah Street, Delta Junction, AK).

e. Fairbanks/North Pole: February 26, 2009 Wedgewood Resort (212 Wedgewood Drive, Fairbanks, AK).

6. It is anticipated that the DEIS will be available for public review in the fall of 2009.

Dated: January 9, 2009.
Serena E. Sweet,
Project Manager, Alaska District.

[FR Doc. E9-1212 Filed 1-21-09; 8:45 am]

BILLING CODE 3710-NL-P